DEPARTMENT OF VETERANS AFFAIRS

Commission on Care

AGENCY: Department of Veterans Affairs.

ACTION: Notice of meeting.

In accordance with the Federal Advisory Committee Act, 5 U.S.C., App. 2, the Commission on Care gives notice that it will meet on Tuesday, June 7, 2016, and Wednesday, June 8, 2016, at the J.W. Marriott, Jr. ASAE Conference Center, 1575 I St. NW., Washington, DC 20005. The meeting will convene at 9:00 a.m. and end by 6:00 p.m. (EDT) on June 7. The meeting will convene at 8:30 a.m. and end no later than 4:00 p.m. (EDT) on June 8. The meetings are open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

Any members of the public wishing to attend the meeting may register their intentions by emailing the Designated Federal Officer, John Goodrich, at john.goodrich@va.gov. Remote attendees joining by telephone must email Mr. Goodrich by 12:00 p.m. (EDT) on Monday, June 6, 2016, to request dial-in information. The public may also submit written statements at any time for the Commission's review to commissiononcare@va.gov.

Dated: May 20, 2016.
John Goodrich,
Designated Federal Officer, Commission on Care.

[FR Doc. 2016-12362 Filed 5-24-16; 8:45 am]

BILLING CODE 8320-01-P